NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

On November 3, 2015, the National Science Foundation issued an Antarctic Conservation Act permit to Michael J. Polito for take, import into the USA, export from the USA, and entry into Antarctic Specially Protected Areas. The permit holder and his agents are permitted to collect sediments and organic remains from active and abandoned penguin colonies and to collect feather samples from gentoo, chinstrap, and Adelie penguins. The permit holder and agents are also permitted to enter ASPAs in the South Orkney Islands, the South Shetland Islands, the Antarctic Peninsula regions, the Ross Sea region, the Victoria Land Coast, the McMurdo Station area, and East Antarctica, as listed in the issued permit.

A recent modification of the permit, dated November 3, 2017, allowed the salvage whole or partial specimens of native Antarctic birds and whole eggs that are found non-viable on beaches and at bird colonies. All specimens would be imported into the USA for identification and analysis. The ultimate disposition of the specimens would be at academic institutions or museums.

Now the permit holder proposes a permit modification to extend the expiration date of the permit until August 31, 2020.

Dates of Permitted Activities: September 1, 2019 to August 31, 2020.

The permit modification was issued on September 12, 2019.

Erika N. Davis,
Program Specialist, Office of Polar Programs.

[FR Doc. 2019-20141 Filed 9-17-19; 8:45 am]

BILLING CODE 7555-01-P